DEPARTMENT OF COMMERCE

Foreign-Trade Zones Board

[B-55-2020]

Foreign-Trade Zone (FTZ) 84—Houston, Texas, Authorization of Production Activity, Schlumberger Technology Corporation, Reslink Product Center (Sand Screen and Related Accessories), Baytown and Houston, Texas

On August 13, 2020, Schlumberger Technology Corporation, Reslink Product Center submitted a notification of proposed production activity to the FTZ Board for its facilities within Subzone 84AA, in Baytown and Houston, Texas.

The notification was processed in accordance with the regulations of the FTZ Board (15 CFR part 400), including notice in the Federal Register inviting public comment (85 FR 54345, September 1, 2020). On December 11, 2020, the applicant was notified of the FTZ Board's decision that no further review of the activity is warranted at this time. The production activity described in the notification was authorized, subject to the FTZ Act and the FTZ Board's regulations, including Section 400.14.

Dated: December 11, 2020.
Andrew McGilvray,
Executive Secretary.

[FR Doc. 2020-27648 Filed 12-15-20; 8:45 am]

BILLING CODE 3510-DS-P